ENVIRONMENTAL PROTECTION AGENCY

40 CFR Parts 52 and 81

[R03-OAR-2005-VA-0007; FRL-7977-9]

Approval and Promulgation of Air Quality Implementation Plans; Virginia; Redesignation of the City of Fredericksburg, Spotsylvania County, and Stafford County Ozone Nonattainment Area to Attainment and Approval of the Area's Maintenance Plan; Withdrawal of Proposed Rule

AGENCY: Environmental Protection Agency (EPA).

ACTION: Withdrawal of proposed rule.

SUMMARY: EPA is withdrawing the proposed rule published on September 12, 2005 which proposed approval of a redesignation request and maintenance plan submitted by the Commonwealth of Virginia for the City of Fredericksburg, Spotsylvania County, and Stafford County (the Fredericksburg area). The Fredericksburg area is currently designated nonattainment for the eight-hour ozone national ambient air quality standard (NAAQS). It is EPA's intent to publish a proposed rule in the near future which will re-propose approval of the redesignation of the Fredericksburg area and the associated maintenance plan, and provide an expanded discussion as to why the redesignation request for this area is approvable under the Clean Air Act.

DATES: The September 12, 2005 proposed rule published at 70 FR 53746 is withdrawn as of September 30, 2005.

FOR FURTHER INFORMATION CONTACT: Amy Caprio, (215) 814-2156, or by e-mail at caprio.amy@epa.gov.

SUPPLEMENTARY INFORMATION:

List of Subjects in 40 CFR Part 52

Environmental protection, Air pollution control, Incorporation by reference, Nitrogen dioxide, Ozone, Reporting and recordkeeping requirements, Volatile organic compounds.

Dated: September 23, 2005.
Thomas Voltaggio,
Acting Regional Administrator, Region III.

[FR Doc. 05-19616 Filed 9-29-05; 8:45 am]

BILLING CODE 6560-50-P